NEIGHBORHOOD REINVESTMENT CORPORATION

Regular Board of Directors Meeting; Sunshine Act

TIME AND DATE: 2:30 p.m., Monday, March 26, 2012.

PLACE: 1325 G Street NW., Suite 800, Boardroom, Washington, DC 20005.

STATUS: Open.

CONTACT PERSON: Erica Hall, Assistant Corporate Secretary, (202) 220-2376; ehall@nw.org.

AGENDA:

I. Call To Order

II. Executive Session

III. Approval of the Regular Board of Directors Meeting Minutes

IV. Approval of the Audit Committee Meeting Minutes

V. Approval of the Finance, Budget and Program Committee Meeting Minutes

VI. Approval of the Corporate Administration Committee Meeting Minutes

VII. Approval of FY 2011 Audit

VIII. Neighborhood LIFT

IX. Fundraising Abstract

X. Financial Report

XI. DC Lease Discussion & Update

XII. CHC/NC

XIII. Management Report

XIV. Report on FY 2007-2011 Strategic Plan, FY'11 Corporate Scorecard and FY'12 Dashboard & Scorecard

XV. National Foreclosure Mitigation Counseling Program (NFMC) & Emergency Homeowners Loan Program (EHLP)

XVI. Adjournment

Erica Hall,
Assistant Corporate Secretary.

[FR Doc. 2012-6343 Filed 3-12-12; 4:15 pm]

BILLING CODE 7570-02-P